DEPARTMENT OF COMMERCE

National Oceanic and Atmospheric Administration

[RTID 0648-XD985]

New England Fishery Management Council; Public Meeting

AGENCY: National Marine Fisheries Service (NMFS), National Oceanic and Atmospheric Administration (NOAA), Commerce.

ACTION: Notice of public meeting.

SUMMARY: The New England Fishery Management Council (Council) is scheduling a public hybrid meeting of its Groundfish Committee to consider actions affecting New England fisheries in the exclusive economic zone (EEZ). Recommendations from this group will be brought to the full Council for formal consideration and action, if appropriate.

DATES: This hybrid meeting will be held on Tuesday, June 11, 2024, at 9 a.m.

ADDRESSES: This meeting will be held at the DoubleTree by Hilton, 50 Ferncroft Road, Danvers, MA 01923; telephone: (978) 777-2500.

Webinar registration URL information: https://nefmc-org.zoom.us/webinar/register/WN_TXGkjdcRQzqAKuM6vs5r1g.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Groundfish Committee will meet to receive recommendations from the Recreational Advisory Panel, Groundfish Advisory Panel, and Groundfish Plan Development Team. They will review draft alternatives for cod stock unit definitions (for Amendment 25), review work to develop options to prorate catch limits from four cod stock units to two current management units (for Framework 69), receive an update on analysis of fishery data, and receive update from public workshops. The Committee will receive a report on Framework Adjustment 69/Specifications and Management Measures (to be initiated)—that is anticipated to include status determination criteria for cod stocks, fishing years (FY) 2025-2027 specifications for Eastern Gulf of Maine (GOM) cod, Western GOM cod, Georges Bank (GB) cod, Southern New England cod, GOM haddock, GB haddock, American plaice, witch flounder, pollock, and Atlantic halibut, FY2025-2026 U.S./Canada total allowable catches (TACs) for, Eastern GB cod, Eastern GB haddock, and GB yellowtail flounder, revisions to sub-annual catch limits and accountability measures triggers for yellowtail flounder (Southern New England/Mid-Atlantic and Georges Bank) and windowpane flounder (northern and southern) in the scallop fishery, and sector reporting requirements. They will make recommendations to the Council, as appropriate. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: May 21, 2024.
Rey Israel Marquez,
Acting Deputy Director, Office of Sustainable Fisheries, National Marine Fisheries Service.

[FR Doc. 2024-11509 Filed 5-23-24; 8:45 am]

BILLING CODE 3510-22-P